COMMISSION ON CIVIL RIGHTS

Notice of Public Meeting of the Tennessee Advisory Committee.

AGENCY: U.S. Commission on Civil Rights.

ACTION: Notice of meeting.

SUMMARY: Notice is hereby given, pursuant to the provisions of the rules and regulations of the U.S. Commission on Civil Rights (Commission) and the Federal Advisory Committee Act that the Tennessee Advisory Committee will hold a public meeting on Tuesday, June 18, 2019; 1:30 p.m. to continue discussion of the Legal Financial Obligation (LFO) report.

DATES: The meeting will be held on Tuesday, June 18, 2019; 1:30 p.m. EDT.

FOR ADDITIONAL INFORMATION CONTACT: Jeff Hinton, DFO, at 312-353-8311 or jhinton@usccr.gov.

SUPPLEMENTARY INFORMATION: Teleconference 877-260-1479, Conference ID: 5777519.

Members of the public are invited to come in and listen to the discussion. Written comments will be accepted until June 22, 2019 and may be mailed to the Regional Program Unit Office, U.S. Commission on Civil Rights, 230 S Dearborn, Suite 2120, Chicago, IL 60604. They may also be faxed to the Commission at (312) 353-8324 or may be emailed to the Regional Director, Jeff Hinton at jhinton@usccr.gov. Records of the meeting will be available via www.facadatabase.gov under the Commission on Civil Rights, Tennessee Advisory Committee link. Persons interested in the work of this Committee are directed to the Commission's website, http://www.usccr.gov, or may contact the Southern Regional Office at the above email or street address.

Agenda

Opening Remarks

New Business: Continue discussion of Legal Financial Obligation (LFO) report

Public Comments/Participation

Adjournment

Dated: June 5, 2019.
David Mussatt,
Supervisory Chief, Regional Programs Unit.

[FR Doc. 2019-12205 Filed 6-10-19; 8:45 am]

BILLING CODE P